DEPARTMENT OF COMMERCE

Patent and Trademark Office

Submission for OMB Review; Comment Request; “Patent Examiner Employment Application”

The United States Patent and Trademark Office (USPTO) will submit to the Office of Management and Budget (OMB) for clearance the following proposal for collection of information under the provisions of the Paperwork Reduction Act (44 U.S.C. Chapter 35).

Agency: United States Patent and Trademark Office, Commerce.

Title: Patent Examiner Employment Application.

OMB Control Number: 0651-0042.

Form Number(s): None.

Type of Request: Regular.

Number of Respondents: 10,660 responses per year.

Average Hours per Response: The USPTO estimates that the response time for the employment application will take the public approximately 30 minutes (0.50 hours) to complete. This includes the time to gather the necessary information, create the document, and submit the completed request to the USPTO.

Burden Hours: 5,330 hours.

Cost Burden: $0.00. There are no filing fees or start-up, maintenance, record keeping, or postage costs associated with this information collection.

Needs and Uses: The use of automated application submissions provides a user-friendly electronic candidate inventory that allows management to review potential applications in real time. An applicant seeking a patent examiner position supplies information to the USPTO that assists Human Resource Specialists and hiring managers and demonstrates whether or not the applicant possess the basic qualifications for the position for which they are applying.

Affected Public: Individuals.

Frequency: On occasion.

Respondents: Required to obtain or retain benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-00## copy request” in the subject line of the message.

• Mail: Marcie Lovett, Records Management Division Director, Office of the Chief Information Officer, United States Patent and Trademark Office, P.O. Box 1450, Alexandria, VA 22313-1450.

Written comments and recommendations for the proposed information collection should be sent on or before November 17, 2017 to Nicholas A. Fraser, OMB Desk Officer, via email to Nicholas_A._Fraser@omb.eop.gov, or by fax to 202-395-5167, marked to the attention of Nicholas A. Fraser.

Marcie Lovett,
Records Management Division Director, USPTO, Office of the Chief Information Officer.

[FR Doc. 2017-22619 Filed 10-17-17; 8:45 am]

BILLING CODE 3510-16-P